DEPARTMENT OF ENERGY

Federal Energy Regulatory Commission

Combined Notice of Filings #1

Take notice that the Commission received the following electric rate filings:

Docket Numbers: ER10-3279-001; ER10-3274 001; ER10-3275 001; ER10-3277 001; ER10-3278-001.

Applicants: Basin Creek Equity Partners L.L.C., Capitol District Energy Center Cogeneration Associates, Pawtucket Power Associates Limited Partnership, Forked River Power LLC, Pittsfield Generating Company, L.P.

Description: Notice of Change in Status of Basin Creek Equity Partners L.L.C., et al.

Filed Date: 5/1/17.

Accession Number: 20170501-5519.

Comments Due: 5 p.m. ET 5/22/17.

Docket Numbers: ER13-1536-014; ER10-2178-030; ER10-2181-034; ER10-2182-033; ER10-2192-030; ER15-1537-007; ER15-1539-007.

Applicants: Exelon Generation Company, LLC, Constellation Energy Commodities Group Maine, LLC, Constellation Energy Services of New York, Inc., Constellation Energy Services, Inc., Constellation NewEnergy, Inc., Nine Mile Point Nuclear Station, LLC, R.E. Ginna Nuclear Power Plant, LLC.

Description: Notice of Change in Status of the Exelon MBR Entities.

Filed Date: 5/1/17.

Accession Number: 20170501-5500.

Comments Due: 5 p.m. ET 5/22/17.

Docket Numbers: ER17-1543-000.

Applicants: PacifiCorp.

Description: § 205(d) Rate Filing: Tri-State Construct Agmt ? Monolith Tap IC to be effective 7/5/2017.

Filed Date: 5/4/17.

Accession Number: 20170504-5098.

Comments Due: 5 p.m. ET 5/25/17.

Docket Numbers: ER17-1545-000.

Applicants: Niagara Mohawk Power Corporation, New York Independent System Operator, Inc.

Description: § 205(d) Rate Filing: Cost Reimbursement Agreement (SA 2335)—NMPC and New Athens Generating Company to be effective 4/5/2017.

Filed Date: 5/5/17.

Accession Number: 20170505-5039.

Comments Due: 5 p.m. ET 5/26/17.

Docket Numbers: ER17-1547-000.

Applicants: PJM Interconnection, L.L.C.

Description: § 205(d) Rate Filing: Queue Position AB2-061, Original Service Agreement No. 4695 to be effective 4/25/2017.

Filed Date: 5/5/17.

Accession Number: 20170505-5095.

Comments Due: 5 p.m. ET 5/26/17.

Docket Numbers: ER17-1548-000.

Applicants: Southern California Edison Company.

Description: § 205(d) Rate Filing: Two True-Up SGIA's Golden Springs Development Company, LLC SA Nos. 541 & 545 to be effective 7/5/2017.

Filed Date: 5/5/17.

Accession Number: 20170505-5121.

Comments Due: 5 p.m. ET 5/26/17.

Docket Numbers: ER17-1549-000.

Applicants: Entergy Arkansas, Inc., Entergy Louisiana, LLC, Entergy Mississippi, Inc., Entergy New Orleans, Inc., Entergy Texas, Inc.

Description: Application of Entergy Services, Inc., on behalf of the Entergy Operating Companies for 2016 Transmission Formula Rate for Post-Retirement Benefits Other than Pensions.

Filed Date: 5/1/17.

Accession Number: 20170501-5526.

Comments Due: 5 p.m. ET 5/22/17.

Docket Numbers: ER17-1550-000.

Applicants: PJM Interconnection, L.L.C.

Description: § 205(d) Rate Filing: Amendment to SA Nos. 3071 and 3072; Queue No. U1-059 and W1-056 re: Assignment to be effective 8/30/2011.

Filed Date: 5/5/17.

Accession Number: 20170505-5128.

Comments Due: 5 p.m. ET 5/26/17.

Docket Numbers: ER17-1551-000.

Applicants: Arizona Public Service Company.

Description: § 205(d) Rate Filing: Amendment to Rate Schedule No. 286—4CA Participant Services Agreement to be effective 7/6/2017.

Filed Date: 5/5/17.

Accession Number: 20170505-5148.

Comments Due: 5 p.m. ET 5/26/17.

Docket Numbers: ER17-1552-000.

Applicants: West Penn Power Company, Monongahela Power Company, Trans-Allegheny Interstate Line Company, PJM Interconnection, L.L.C.

Description: § 205(d) Rate Filing: West Penn et al submits revised Interconnection Agreement 1395 to be effective 6/1/2017.

Filed Date: 5/5/17.

Accession Number: 20170505-5149.

Comments Due: 5 p.m. ET 5/26/17.

Docket Numbers: ER17-1553-000.

Applicants: Duke Energy Progress, LLC.

Description: § 205(d) Rate Filing: DEP-Fayetteville RS No. 184 Revised PPA to be effective 7/1/2017.

Filed Date: 5/5/17.

Accession Number: 20170505-5150.

Comments Due: 5 p.m. ET 5/26/17.

Docket Numbers: ER17-1554-000.

Applicants: Puget Sound Energy, Inc.

Description: § 205(d) Rate Filing: Open Access Transmission Tariff Housekeeping Revisions to be effective 5/8/2017.

Filed Date: 5/5/17.

Accession Number: 20170505-5152.

Comments Due: 5 p.m. ET 5/26/17.

Take notice that the Commission received the following qualifying facility filings:

Docket Numbers: QF16-823-000.

Applicants: Gloversville-Johnstown Joint Wastewater.

Description: Refund Report of Gloversville-Johnstown Joint Wastewater Treatment Facility.

Filed Date: 5/1/17.

Accession Number: 20170501-5492.

Comments Due: 5 p.m. ET 5/22/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 5, 2017.
Kimberly D. Bose,
Secretary.

[FR Doc. 2017-09622 Filed 5-11-17; 8:45 am]

BILLING CODE 6717-01-P